DEPARTMENT OF LABOR

Employment and Training Administration

[TA-W-62,833; TA-W-62,833B; TA-W-62,833C; TA-W-62,833D; TA-W-62,833E]

Megtec Systems, Inc., a Subsidiary of Sequa Corporation, Depere, WI, Including Employees of Megtec Systems, Inc., a Subsidiary of Sequa Corporation, Depere, WI, Working Out of: Wellford, SC; Jacksonville, FL; Las Cruces, NM; Mesa, AZ; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 16, 2008, applicable to workers of Megtec Systems, Inc., a subsidiary of Sequa Corporation, DePere, Wisconsin. The notice was published in the Federal Register on May 29, 2008 (73 FR 30977). The certification was amended on June 26, 2008 to include an employee working out of Fayetteville, Georgia. The notice was published in the Federal Register on July 14, 2008 (73 FR 40386).

At the request of the State agency, the Department reviewed the certification for workers of the subject firm.

New information shows that worker separations have occurred involving employees (Mr. Jimmy Gosnell, Mr. Dino Kimbrell, Mr. David Lettner, and Ms. Jody Meetz) of Megtec Systems, Inc., a subsidiary of Sequa Corporation DePere, Wisconsin, working out of Wellford, South Carolina, Jacksonville, Florida, Las Cruces, New Mexico and Mesa, Arizona.

Based on these findings, the Department is amending this certification to include employees of the DePere, Wisconsin location of the subject firm working out of Wellford, South Carolina, Jacksonville, Florida, Las Cruces, New Mexico and Mesa, Arizona.

The intent of the Department's certification is to include all workers of Megtec Systems, Inc., a subsidiary of Sequa Corporation, DePere, Wisconsin, who were adversely affected by increased imports of air flotation drying, pollution control and paper handling equipment.

The amended notice applicable to TA-W-62,833 is hereby issued as follows:

“All workers of Megtec Systems, Inc., a subsidiary of Sequa Corporation, DePere, Wisconsin (TA-W-62,833), including employees of Megtec Systems, Inc., a subsidiary of Sequa Corporation, DePere, Wisconsin, working out of Wellford, South Carolina (TA-W-62,833B), Jacksonville, Florida (TA-W-62,833C), Las Cruces, New Mexico (TA-W-62,833D), and Mesa, Arizona (TA-W-62,833E), who became totally or partially separated from employment on or after February 11, 2007, through May 16, 2010, are eligible to apply for adjustment assistance under Section 223 of the Trade Act of 1974, and are also eligible to apply for alternative trade adjustment assistance under Section 246 of the Trade Act of 1974.”

Signed at Washington, DC, this 6th day of August 2008.
Linda G. Poole,
Certifying Officer, Division of Trade Adjustment Assistance.

[FR Doc. E8-18583 Filed 8-11-08; 8:45 am]

BILLING CODE 4510-FN-P